DEPARTMENT OF COMMERCE

Foreign-Trade Zones Board

[B-41-2015]

Authorization of Production Activity, Foreign-Trade Subzone 38A, BMW Manufacturing Co., LLC, (Motor Vehicles), Spartanburg, South Carolina

On June 3, 2015, BMW Manufacturing Company, LLC, operator of Subzone 38A, submitted a notification of proposed production activity to the Foreign-Trade Zones (FTZ) Board for its facility in Spartanburg, South Carolina.

The notification was processed in accordance with the regulations of the FTZ Board (15 CFR part 400), including notice in the Federal Register inviting public comment (80 FR 35302-35303, 6-19-2015). The FTZ Board has determined that no further review of the activity is warranted at this time. The production activity described in the notification is authorized, subject to the FTZ Act and the FTZ Board's regulations, including Section 400.14, and further subject to a restriction requiring that all foreign status textile-based felt strips and damping strips (classified within HTSUS 5602.10 and 5602.90) used in the production activity must be admitted to the subzone in privileged foreign status (19 CFR 146.41).

Dated: October 1, 2015.
Pierre V. Duy,
Acting Executive Secretary.

[FR Doc. 2015-25813 Filed 10-8-15; 8:45 am]

BILLING CODE 3510-DS-P